DEPARTMENT OF AGRICULTURE

Agricultural Marketing Service

[Doc. No. AMS-FGIS-21-0017]

United States Standards for Wheat

AGENCY: Agricultural Marketing Service, USDA.

ACTION: Notice.

SUMMARY: The United States Department of Agriculture's (USDA) Agricultural Marketing Service (AMS) is making no changes regarding the U.S. Standards for Wheat under the U.S. Grain Standards Act, as amended (USGSA).

DATES: Applicable: October 12, 2022.

FOR FURTHER INFORMATION CONTACT: Barry Gomoll, USDA AMS; Telephone: (202) 720-8286; Email: Barry.L.Gomoll@usda.gov.

SUPPLEMENTARY INFORMATION: Section 4 of the USGSA (7 U.S.C. 76(a)) grants the Secretary of Agriculture the authority to establish standards for grain regarding kind, class, quality, and condition. AMS published a request for information on April 20, 2021, in the Federal Register (86 FR 20480), inviting interested parties to comment on whether the current wheat standards and grading practices need to be changed. Current U.S. Standards for Wheat can be found at 7 CFR 810.2201-5.

AMS received a total of five comments on the U.S. Standards for Wheat during the comment period.

Four commenters, representing grain merchandisers, exporters, and traders, responded that they are satisfied with the standards as currently written, stating that changes may create confusion and uncertainty for the market and should only be made if they significantly improve the marketing of U.S. wheat. Three of these commenters further stated a desire for further research into the marketing of Hard White Wheat (HDWH), either by differentiating between winter and spring varieties, merging HDWH with the class Hard Red Winter Wheat (HRW) to create a Hard Winter Wheat class, or increasing the allowable amount of HDWH in HRW.

One commenter, representing a wheat growing group, suggested changing the standards, either by merging HDWH and HRW to create a Hard Winter Wheat class or by increasing the allowable Wheat of Other Classes in HRW to 25%. The commenter mentioned that such a standards change could help remove barriers to growers hoping to market HDWH for export markets.

Based on the balance of comments received in response to the request, AMS has decided to make no changes to the wheat standards at this time. However, AMS will collaborate with the wheat industry to consider any data and research from interested stakeholders regarding the possibilities, impacts, and potential market acceptance of either merging HDWH and HRW to create a Hard Winter Wheat class, or increasing the allowable Wheat of Other Classes in HRW to 25%.

Final Action

Based on the comments received, AMS-FGIS is making no changes to the U.S Standards for Wheat at this time.

Authority: 7 U.S.C. 71-87k.

Melissa Bailey,
Associate Administrator, Agricultural Marketing Service.

[FR Doc. 2022-22113 Filed 10-11-22; 8:45 am]

BILLING CODE P